DEPARTMENT OF HOMELAND SECURITY

U.S. Citizenship and Immigration Services

[CIS No. 2457-08; DHS Docket No. USCIS-2008-0036]

RIN 1615-ZA74

Revision to Direct Mail Program for Submitting Form N-400, Application for Naturalization

AGENCY: U.S. Citizenship and Immigration Services, DHS.

ACTION: Notice.

SUMMARY: U.S. Citizenship and Immigration Services (USCIS) is revising its Direct Mail Program so that certain filings of Form N-400, Application for Naturalization, will now be filed at a designated lockbox facility instead of a USCIS Service Center. However, if you are the spouse of an active member of the Armed Forces, this notice instructs you now to file your Form N-400 at the Nebraska Service Center (NSC), whether you are filing from within the U.S. or abroad. This notice does not change the filing location for Forms N-400 filed by active members or certain veterans of the Armed Forces who are eligible to apply for naturalization under sections 328 or 329 of the Immigration and Nationality Act (the Act).

DATES: This notice becomes effective October 14, 2008.

FOR FURTHER INFORMATION CONTACT: Kathleen Stanley, Chief, Lockbox Operations Division, Office of the Chief Financial Officer, U.S. Citizenship and Immigration Services, Department of Homeland Security, 20 Massachusetts Avenue, NW., 4th Floor, Washington, DC 20529, Telephone (202) 233-2385.

SUPPLEMENTARY INFORMATION:

Background

What Is the Direct Mail Program?

The Direct Mail Program allows USCIS to standardize and more efficiently process applications by eliminating duplicative work, maximizing staff productivity, and introducing better information management tools. The purpose and strategy of the Direct Mail Program has been discussed in detail in previous rulemaking and notices. (See 59 FR 33903, 59 FR 33985, 60 FR 22408, 61 FR 2266, 61 FR 56060, 62 FR 16607, 63 FR 891, 63 FR 892, 63 FR 13434, 63 FR 13878, 63 FR 16828, 63 FR 50584, 63 FR 8688, 63 FR 8689, 64 FR 67323, 69 FR 3380, 69 FR 4210, 70 FR 30768, 72 FR 3402, and 73 FR 50336.)

Explanation of Changes

Will this notice change my eligibility for naturalization?

No. This notice only affects the filing instructions where certain Form N-400s must be mailed. Some Form N-400s that were previously filed at USCIS Service Centers must now be sent to a designated lockbox facility. Please note that active members and certain veterans of the Armed Forces, as well as spouses of active members of the Armed Forces, have separate filing instructions. Filing changes will be discussed in detail in the following charts.

Where should I send my Form N-400 and all supporting documentation?

Please refer to the following charts as to where to file your Form N-400:

Armed Forces Applicants (Veterans & Active Members) & Spouses of Active Members of the Armed Forces
If . . . | Then mail to . . .
You are a veteran or an active member of the Armed Forces and are eligible to apply for naturalization under section 328 or 329 of the Act; or | Nebraska Service Center, P.O. Box 87426, Lincoln, NE 68501-7426.
You are the spouse of an active member of the Armed Forces | Private Courier (non-USPS) Deliveries: Nebraska Service Center, 850 S Street, Lincoln, NE 68508.

Non-Armed Forces Applicants
If . . . | Then mail to . . .
You reside in:
Alaska, Arizona, California, Colorado, Hawaii, Idaho, Illinois, Indiana, Iowa, Kansas, Michigan, Minnesota, Missouri, Montana, Nebraska, Nevada, North Dakota, Ohio, Oregon, South Dakota, Utah, Washington, Wisconsin, Wyoming, Territory of Guam, Northern Mariana Islands | USCIS Lockbox Facility, USCIS, P.O. Box 21251, Phoenix, AZ 85036. Private Courier (non-USPS) Deliveries: USCIS, Attn: N400, 1820 E Skyharbor Circle S. Floor 1, Phoenix, AZ 85036.
You reside in:
Alabama, Arkansas, Connecticut, Delaware, DC, Florida, Georgia, Kentucky, Louisiana, Maine, Maryland, Massachusetts, Mississippi, New Hampshire, New Jersey, New Mexico, New York, North Carolina, Oklahoma, Pennsylvania, Puerto Rico, Rhode Island, South Carolina, Tennessee, Texas, Vermont, Virginia, West Virginia, U.S. Virgin Islands | USCIS Lockbox Facility, USCIS, P.O. Box 299026, Lewisville, TX 75029. Private Courier (non-USPS) Deliveries: USCIS, Attn: N400, 2501 S. State Hwy 121, Bldg. #4, Lewisville, TX 75067.

What happens if I file a Form N-400 covered by this notice at the wrong location?

For the first 30 days after this notice takes effect, USCIS will forward any improperly addressed Form N-400s covered by this notice to the proper lockbox address. Any applications forwarded within this time period will be considered properly filed when receipted at the Lockbox.

After this 30-day transition period, any Form N-400 covered by this notice that is received at a location other than the appropriate lockbox address will be returned to you with an explanation directing you to mail it to the appropriate lockbox address.

Is USCIS amending the Form N-400 Instructions?

USCIS is currently amending instructions and information listed on our Web site (http://www.uscis.gov) to reflect the new filing addresses and process change information. For example, inserting the requirement for passport style photos and providing clarification of the grounds for rejection of an application.

Where may I find information related to eligibility requirements for naturalization?

You may find general eligibility requirements for naturalization at our Web site: http://www.uscis.gov. You may also download “A Guide to Naturalization (Form M-476),” which provides information on the benefits and responsibilities of citizenship, an overview of the naturalization process, and eligibility requirements.

Paperwork Reduction Act

USCIS is amending the instructions to the Form N-400. Accordingly, USCIS has submitted an information collection request to Office of Management and Budget in accordance with the Paperwork Reduction Act. The instruction changes will not impose any new reporting or record-keeping requirements. The OMB control number for this collection is contained in 8 CFR 299.5, Display of control numbers.

Dated: August 28, 2008.
Jonathan R. Scharfen,
Acting Director, U.S. Citizenship and Immigration Services.

[FR Doc. E8-21083 Filed 9-11-08; 8:45 am]

BILLING CODE 9111-97-P